DEPARTMENT OF ENERGY

Federal Energy Regulatory Commission

[Docket No. CP14-116-000]

Notice of Application for Certificate of Public Convenience and Necessity Great Lakes Gas Transmission Limited Partnership

Take notice that on March 21, 2014 Great Lakes Gas Transmission Limited Partnership (Great Lakes), 717 Texas Street, Suite 2400, Houston, Texas 7700-2761, filed in the above referenced docket an abbreviated application pursuant to section 7(b) of the Natural Gas Act (NGA) and Sections 157.7 and 157.18 of the Commission's regulations requesting authorization for a temporary act or operation to temporarily deactivate the certified capacity associated with a temporary, phased reduction in the maximum operating pressure (MOP) from 974 psig to 897 psig of a portion of its natural gas pipeline system from the Canadian/United States border at Emerson to Great Lakes' Cloquet Compressor Station 5 in Minnesota. Great Lakes proposes this temporary action for a period of up to 36 month, all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Richard Parke, Manager, Certificates, at (832) 320-5516, Great Lakes Gas Transmission Limited Partnership, 717 Texas Street, Suite 2400, Houston, Texas, or by email richard_parke@transcanada.com.

Specifically, beginning April 1, 2013 the MOP of the subject section of pipeline was temporarily reduced by five percent from 974 psig to 925 psig to ensure system integrity and safety. Great Lakes proposes the second phase of temporary five percent MOP reduction from 925 psig to 879 psig for April 1, 2015 until April 1, 2017. These proposed operational changes would result in an overall reduction in available capacity of approximately 226,000 dekatherms per day of firm winter and 191,000 dekatherms per day firm summer capacity for west to east flow. Great Lakes states that, during the 36-month period, it will determine if market conditions support the continued operation at certified levels of all lines and segments of its system from Canadian/United States border to Great Lakes' Compressor Station 5, or whether it will instead seek authorization for permanent abandonment of a portion of the capacity and line segment(s) associated with this temporary action. Great Lakes states that the MOP reduction does not impact capacity on the east to west flow or Great Lakes' ability to meet any of its existing firm contractual commitments. Great Lakes states no construction or ground disturbance has or will occur for these modifications and therefore there is no associated cost.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 5 copies of the protest or intervention to the Federal Energy regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on April 25, 2014.

Dated: April 4, 2014.
Kimberly D. Bose,
Secretary.

[FR Doc. 2014-08053 Filed 4-9-14; 8:45 am]

BILLING CODE 6717-01-P